DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW, Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 1999, through September 27, 1999.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Anita Szpotowicz on behalf of Andrew Szpotowicz, Cleveland, Ohio, Court of Federal Claims Number 99-0192V

2. Jan Malloy on behalf of Laura Malloy, Hazelton, Pennsylvania, Court of Federal Claims Number 99-0193V

3. Lisa A. Lippa, Henderson, Kentucky, Court of Federal Claims Number 99-0202V

4. O. Lisa Persinger, Forsyth, Missouri, Court of Federal Claims Number 99-0204V

5. Marilyn Kirschner on behalf of Lindsay Kirschner, Vienna, Virginia, Court of Federal Claims Number 99-0206V

6. Phyllis Noe, Vienna, Virginia, Court of Federal Claims Number 99-0207V

7. April Oakes on behalf of Cassie Oakes, Vienna, Virginia, Court of Federal Claims Number 99-0208V

8. Roy Pearl on behalf of Traci Pearl, Vienna, Virginia, Court of Federal Claims Number 99-0209V

9. Scott Pearl, Vienna, Virginia, Court of Federal Claims Number 99-0210V

10. Nahla and Babekir Ahmed on behalf of Mohamed Babekir Ahmed, Alexandria, Virginia, Court of Federal Claims Number 99-0211V

11. Kim and Lamar Visarraga on behalf of Monica Marie Visarraga, Deceased, Sacramento, California, Court of Federal Claims Number 99-0212V

12. Terry Withers on behalf of Parker Withers, Las Vegas, Nevada, Court of Federal Claims Number 99-0213V

13. Mary and Vernon Johnson on behalf of Hillary Johnson, Worcester, Massachusetts, Court of Federal Claims Number 99-0219V

14. Sherry and Michael Battisti on behalf of Anthony Battisti, Rochester, New York, Court of Federal Claims Number 99-0223V

15. Laurie Mabee, White Cloud, Michigan, Court of Federal Claims Number 99-0230V

16. Victoria and Scott Shelton on behalf of Taylor V. Shelton, Vienna, Virginia, Court of Federal Claims Number 99-0234V

17. Elizabeth Hyla, Buffalo, New York, Court of Federal Claims Number 99-0238V

18. Kalena Woolf on behalf of Tala Dawn Woolf, Deceased, Texarkana, Texas, Court of Federal Claims Number 99-0259V

19. Tyler Hartman, Fairfield, Ohio, Court of Federal Claims Number 99-0261V

20. Jessie Mae Williams, San Antonio, Texas, Court of Federal Claims Number 99-0263V

21. Annette Nelson on behalf of Trevian Devante Nelson, Baton Rouge, Louisiana, Court of Federal Claims Number 99-0263V

22. George Guzman, Kirkland, Washington, Court of Federal Claims Number 99-0264V

23. Melissa Silva on behalf of Angelo Silva, Ruidoso, New Mexico, Court of Federal Claims Number 99-0270V

24. Serita L. Smith on behalf of Hunter James Smith, Camp Pendleton, California, Court of Federal Claims Number 99-0271V

25. Elidia Chuatle on behalf of Argenis Herrera, Bronx, New York, Court of Federal Claims Number 99-0278V

26. Martin Brausewetter, Staten Island, New York, Court of Federal Claims Number 99-0278V

27. Kimberly and Thomas Francis on behalf of Victoria Francis, West Chester, Pennsylvania, Court of Federal Claims Number 99-0286V

28. Kelly and John Sanford on behalf of Arden Christina Sanford, West Palm Beach, Florida, Court of Federal Claims Number 99-0287V

29. Carole E. Rudd on behalf of David A. Rudd, Newburyport, Massachusetts, Court of Federal Claims Number 99-0291V

30. Michele and John Jenkins on behalf of Jesse Lee Jenkins, Bedford, Indiana, Court of Federal Claims Number 99-0295V

31. Gerald Doffing, Frederic, Wisconsin, Court of Federal Claims Number 99-0304V

32. Michelle Green on behalf of Chelsey Green, Amarillo, Texas, Court of Federal Claims Number 99-0305V

33. Michael Hroncich on behalf of Brianna Nicole Hroncich, Deceased, Westfield, New Jersey, Court of Federal Claims Number 99-0306V

34. Patricia Rodriguez, Vienna, Virginia, Court of Federal Claims Number 99-0307V

35. Nicole Hamelin-Garcia, Vienna, Virginia, Court of Federal Claims Number 99-0308V

36. Mike Morrill, Vienna, Virginia, Court of Federal Claims Number 99-0309V

37. Onelia Valdes, Vienna, Virginia, Court of Federal Claims Number 99-0310V

38. Jennifer Garland, Indianapolis, Indiana, Court of Federal Claims Number 99-0313V

39. Cary Vhugen and Ellen Hermanns on behalf of Erik H. Vhugen, Santa Monica, California, Court of Federal Claims Number 99-0314V

40. Dorothy Werderitsh, Indianapolis, Indiana, Court of Federal Claims Number 99-0319V

41. Debra May, Indianapolis, Indiana, Court of Federal Claims Number 99-0320V

42. Betty Fluck, Indianapolis, Indiana, Court of Federal claims Number 99-0321V

43. Diana and Kerry D. Smith on behalf of Michael Randall Smith, Miami, Florida, Court of Federal Claims Number 99-0325V

44. Courtney M. Lambert, Aliquippa, Pennsylvania, Court of Federal Claims Number 99-0327V

45. Judy Saari, Vienna, Virginia, Court of Federal Claims Number 99-0328V

46. Monique Kanadanian, Vienna, Virginia, Court of Federal Claims Number 99-0329V

47. Kristen Jennings on behalf of Dylan Jennings, Vienna, Virginia, Court of Federal Claims Number 99-0330V

48. Kim and Kenneth Smith on behalf of Bridget Smith, Edina, Minnesota, Court of Federal Claims Number 99-0331V

49. Laura Lichoff, Columbus, Ohio, Court of Federal Claims Number 99-0332V

50. Kelly and Ruben Lujan on behalf of Dominic A. Lujan, Las Vegas, Nevada, Court of Federal Claims Number 99-0333V

51. Sharon and Robert Tersen on behalf of Gregory Tersen, Fort Myers, Florida, Court of Federal Claims Number 99-0341V

52. Deborah Burns, Fort Worth, Texas, Court of Federal Claims Number 99-0353V

53. Debbie Kaye Hunt, Vienna, Virginia, Court of Federal Claims Number 99-0356V

54. Carla and Parke Gramm on behalf of Parke Gramm, Irvington, New Jersey, Court of Federal Claims Number 99-0359V

55. Sue and Stuart Carter on behalf of Corey Carter, Vienna, Virginia, Court of Federal Claims Number 99-0362V

56. Tamra and Curtis Poll on behalf of Nathan Curtis Poll, Ogden, Utah, Court of Federal Claims Number 99-0371V

57. Patricia and Brian Strickland on behalf of Justin Brian Strickland, Deceased, Laurel, Mississippi Court of Federal claims Number 99-0374V

58. Linda and Larrie Collura on behalf of Larrie S. Collura, North Brunswick, New Jersey, Court of Federal Claims Number 99-0377V

59. Joanne Griffin, Vienna, Virginia, Court of Federal Claims Number 99-0378V

60. Sharon Durham, Vienna, Virginia, Court of Federal Claims Number 99-0379V

61. Kari Andersen, Vienna, Virginia, Court of Federal Claims Number 99-0380V

62. Pat Gerard, Vienna, Virginia, Court of Federal Claims Number 99-0381V

63. Quinton O. Riggins, Jr., Vienna, Virginia, Court of Federal Claims Number 99-0382V

64. Tammie and Thomas Houston on behalf of Thomas Matthew Houston, Higginsville, Missouri, Court of Federal Claims Number 99-0391V

65. Anna Nicolas on behalf of Nathaniel Nicolas, Beach Haven, New Jersey, Court of Federal Claims Number 99-0393V

66. Amy and Dennis Ostermeier on behalf of Katelyn Ostermeier, Grand Forks, North Dakota, Court of Federal Claims Number 99-0394V

67. Natalie and David Hay on behalf of Trevor Hay, Orlando, Florida, Court of Federal Claims Number 99-0398V

68. Dorothy and Hugh Benson on behalf of Shekinah Benson, Boston, Massachusetts, Court of Federal Claims Number 99-0399V

69. Rebecca S. Baker, Indianapolis, Indiana, Court of Federal Claims Number 99-0404V

70. Janet and Gregory Brooks on behalf of Kelly Brooks, Henrietta, New York, Court of Federal Claims Number 99-0405V

71. Nathan House, Vienna, Virginia, Court of Federal Claims Number 99-0406V

72. Linda and Joseph Goss on behalf of Jessica Goss, Vienna, Virginia, Court of Federal Claims Number 99-0407V

73. Lori Barillaro, Vienna, Virginia, Court of Federal Claims Number 99-0408V

74. Cheryl and Rick Butcher on behalf of Taylor Butcher, Deceased, Vienna, Virginia, Court of Federal Claims Number 99-0409V

75. Sue Cruz, Vienna, Virginia, Court of Federal Claims Number 99-0410V

76. Cheryl A. Castagna, Vienna, Virginia, Court of Federal Claims Number 99-0411V

77. Sonya and David Morris on behalf of Taylor Morris, Vienna, Virginia, Court of Federal Claims Number 99-0412V

78. Gordon F. McCammon, Vienna, Virginia, Court of Federal Claims Number 99-0423V

79. Jill Anne Stiefel, Vienna, Virginia, Court of Federal Claims Number 99-0424V

80. Linda Lenahan, Vienna, Virginia, Court of Federal Claims Number 99-0425V

81. Susan Kreider, Vienna, Virginia, Court of Federal Claims Number 99-0426V

82. Sarah Ann Willie, Vienna, Virginia, Court of Federal Claims Number 99-0427V

83. Barbara-Jean Cramer, Vienna, Virginia, Court of Federal Claims Number 99-0428V

84. Matthew Z. Larive, Vienna, Virginia, Court of Federal Claims Number 99-0429V

85. Ronnie D. Sanders, Sr., Vienna, Virginia, Court of Federal Claims Number 99-0430V

86. Rebecca S. McCauley, Vienna, Virginia, Court of Federal Claims Number 99-0431V

87. Jacinda S. Fisher, Vienna, Virginia, Court of Federal Claims Number 99-0432V

88. Deborah Diana Butler, Vienna, Virginia, Court of Federal Claims Number 99-0433V

89. Dana Imlay on behalf of Breanna Barber, Vienna, Virginia, Court of Federal Claims Number 99-0434V

90. Stephanie Phippen, Vienna, Virginia, Court of Federal Claims Number 99-0435V

91. Bonnie and Jamie Thompson on behalf of Katherine A. Thompson, Vienna, Virginia, Court of Federal Claims Number 99-0436V

92. Shawn and John Klorczyk on behalf of Zachary Klorczyk, Vienna, Virginia, Court of Federal Claims Number 99-0437V

93. Jodi Lynn Kabat, Vienna, Virginia, Court of Federal Claims Number 99-0438V

94. Jane and Gregory Westfall on behalf of Luke Westfall, Vienna, Virginia, Court of Federal Claims Number 99-0439V

95. Rosemary and Francis Adelizzi on behalf of Francis Matthew Adelizzi, III, Cape May, New Jersey, Court of Federal Claims Number 99-0444V

96. Sharon Johnson on behalf of Kari Johnson, Vienna, Virginia, Court of Federal Claims Number 99-0450V

97. Kimberly Gabbard, Vienna, Virginia, Court of Federal Claims Number 99-0451V

98. Sheldon D. Wexler, Vienna, Virginia, Court of Federal Claims Number 99-0452V

99. Pedora and Jack Sexton on behalf of Nicholas Zachary Sexton, Deceased, Vienna, Virginia, Court of Federal Claims Number 99-0453V

100. Vili Kraljevic, Vienna, Virginia, Court of Federal Claims Number 99-0454V

101. Stacey and Carl Duncan on behalf of Carly Iris Duncan, Vienna, Virginia, Court of Federal Claims Number 99-0455V

102. Rosita Belone and Terry Singer on behalf of Summer K. Belone, Winslow, Arizona, Court of Federal Claims Number 99-0457V

103. Jose Guerrero, Dallas, Texas, Court of Federal Claims Number 99-0458V

104. Rachel Sting, Mobridge, South Dakota, Court of Federal Claims Number 99-0459V

105. Debbie Silver, Vienna, Virginia, Court of Federal Claims Number 99-0462V 21

106. Timothy James Carpenter, Vienna, Virginia, Court of Federal Claims Number 99-0463V

107. Candace Marie Kort, Vienna, Virginia, Court of Federal Claims Number 99-0464V

108. Timothy James Carpenter, II, Vienna, Virginia, Court of Federal Claims Number 99-0465V

109. Harvey Gruber, Vienna, Virginia, Court of Federal Claims Number 99-0466V

110. Charlene Pagac on behalf of Lucas Paul Pagac, Vienna, Virginia, Court of Federal Claims Number 99-0467V

111. Charlene Pagac on behalf of Isaak Alvin Pagac, Vienna, Virginia, Court of Federal Claims Number 99-0468V

112. Jennifer L. Ziegler, Vienna, Virginia, Court of Federal Claims Number 99-0469V

113. Kimberly Dixon on behalf of Dymetria Knight, Vienna, Virginia, Court of Federal Claims Number 99-0470V

114. Sandra and Castro Juncal on behalf of Natasha Juncal, North Miami, Florida, Court of Federal Claims Number 99-0475V

115. Teresa Ann Helton on behalf of Ashley Elizabeth Ransom, Deceased, Austell, Georgia, Court of Federal Claims Number 99-0478V

116. Nancy Gardner-Cook, Lancaster, Pennsylvania, Court of Federal Claims Number 99-0480V

117. Amber Borin on behalf of Trey Borin, Cincinnati, Ohio, Court of Federal Claims Number 99-0491V

118. Alina Cusati on behalf of Eric Fernandez, Bronx, New York, Court of Federal Claims Number 99-0492V

119. Laili Aly on behalf of Shadi Wadie, Vienna, Virginia, Court of Federal Claims Number 99-0493V

120. Maryann and Michael Zezulak on behalf of Michael Scott Zezulak, Jr, Vienna, Virginia, Court of Federal Claims Number 99-0494V

121. Tammy Carrington on behalf of Jonathan Carrington, Vienna, Virginia, Court of Federal Claims Number 99-0495V

122. Debi and Howard Kaplan on behalf of Ashley EIysa Kaplan, Vienna, Virginia, Court of Federal Claims Number 99-0496V

123. Richard Abbott, Sr. on behalf of Richard Abbott, Jr., Vienna, Virginia, Court of Federal Claims Number 99-0497V

124. Jaime Dejesus Rezzonico, Vienna, Virginia, Court of Federal Claims Number 99-0498V

125. Laurie Vidaver, Vienna, Virginia, Court of Federal Claims Number 99-0499V

126. Jay Nussman, Vienna, Virginia, Court of Federal Claims. Number 99-0500V

127. Laura L. Cosby, Vienna, Virginia, Court of Federal Claims Number 99-0501V

128. Julianna Hodgman, Vienna, Virginia, Court of Federal Claims Number 99-0502V

129. Leslie J. Klauss, Vienna, Virginia, Court of Federal Claims Number 99-0503V

130. Janet and Ronald Allen on behalf of Ronald Allen, III, Vienna, Virginia, Court of Federal Claims Number 99-0504V

131. Barbara and Roland Stipe on behalf of Landon Cole Stipe, Vienna, Virginia, Court of Federal Claims Number 99-0505V

133. Theresa and Frank Picciotti on behalf of Frank C. Picciotti, Vienna, Virginia, Court of Federal Claims Number 99-0506V

133. Anthony Lamberti, Vienna, Virginia, Court of Federal Claims Number 99-0507V

134. Kenneth Teknus on behalf of Paul Michael Teknus, Port Charlotte, Florida, Court of Federal Claims Number 99-0508V

135. Karen and Michael Hochniuk on behalf of Heather Hochniuk, Vienna, Virginia, Court of Federal Claims Number 99-0509V

136. Barbara Davis, Vienna, Virginia, Court of Federal Claims Number 99-0510V

137. Traci McGowan on behalf of Alexander W. McGowan, Bethesda, Maryland, Court of Federal Claims Number 99-0511V

138. Hong (Heather) Tabatchnick on behalf of Nina H. Tabatchnick, Vienna, Virginia, Court of Federal Claims Number 99-0512V

139. Kathy and Richard Richards on behalf of David William Richards, Deceased, Vienna, Virginia, Court of Federal Claims Number 99-0517V

140. Carol Clemens, Vienna, Virginia, Court of Federal Claims Number 99-0518V

141. Anne E. Oftenweller, Vienna, Virginia, Court of Federal Claims Number 99-0519V

142. Deborah Van Burch on behalf of Khadija Aaliyah Francis, Vienna, Virginia, Court of Federal Claims Number 99-0520V

143. Sanford H. Alper, Vienna, Virginia, Court of Federal Claims Number 99-0521V

144. Christina and Kenneth Robinson on behalf of Kenneth Robinson, Vienna, Virginia, Court of Federal Claims Number 99-0522V

145. Cheryl Lombardi, Vienna, Virginia, Court of Federal Claims Number 99-0523V

146. Eva and Daniel Ricci on behalf of Thomas Walter Ricci, Downers Grove, Illinois, Court of Federal Claims Number 99-0524V

147. Robert Lasch, Vienna, Virginia, Court of Federal Claims Number 99-0525V

148. Laura Cannizzario, Boca Raton, Florida, Court of Federal Claims Number 99-0526V

149. Paige Howard on behalf of Hayden Howard, Austin, Texas, Court of Federal Claims Number 99-0527V

150. Reginald Hailey, Waldwick, New Jersey, Court of Federal Claims Number 99-0532V

151. Casey Hocraffer, Eagle Grove, Iowa, Court of Federal Claims Number 99-0533V

152. Julie Mulac on behalf of Marco Torres, Youngstown, Ohio, Court of Federal Claims Number 99-0534V

153. Laura Elizabeth Turpin, Vienna, Virginia, Court of Federal Claims Number 99-0535V

154. Jennifer Villasenor, Vienna, Virginia, Court of Federal Claims Number 99-0536V

155. Laura Savin on behalf of Bruce Thomas Savin, Vienna, Virginia, Court of Federal Claims Number 99-0537V

156. Martha and Bill Noel on behalf of Rachel Anne Noel, Vienna, Virginia, Court of Federal Claims Number 99-0538V

157. Myra and Richard Brown on behalf of Laura Brown, Vienna, Virginia, Court of Federal Claims Number 99-0539V

158. Karen Davis, Vienna, Virginia, Court of Federal Claims Number 99-0540V

159. Lynn Miller, Vienna, Virginia, Court of Federal Claims Number 99-0541V

160. Adael Shinn on behalf of Paul Stami, Vienna, Virginia, Court of Federal Claims Number 99-0542V

161. Nancy Turner on behalf of Natalie Turner, Vienna, Virginia, Court of Federal Claims Number 99-0543V

162. Nancy Turner on behalf of Brandon Turner, Vienna, Virginia, Court of Federal Claims Number 99-0544V

163. Barbara Murray, Vienna, Virginia, Court of Federal Claims Number 99-0545V

164. Donald Simmons, Pascagoula, Mississippi, Court of Federal Claims Number 99-0546V

165. Karen and Manfred Glaeser on behalf of Katie Glaeser, South Elgin, Illinois, Court of Federal Claims Number 99-0548V

166. Elvin J. Looney, Bakersfield, California, Court of Federal Claims Number 99-0549V

167. Jeffrey F. Miller, Baltimore, Maryland, Court of Federal Claims Number 99-0551V

168. Elizabeth Shapiro, Baltimore, Maryland, Court of Federal Claims Number 99-0552V

169. Alan P. Emmendorfer on behalf of Michael J. Emmendorfer, Baltimore, Maryland, Court of Federal Claims Number 99-0553V

170. Janet Pfistrer and Christopher Cole on behalf of Caroline Isabel Cole, Fort Collins, Colorado, Court of Federal Claims Number 99-0554V

171. Sherri A. Ballam, Canandaigua, New York, Court of Federal Claims Number 99-0555V

172. Carl Loizzi on behalf of Michael Loizzi, Sylmar, California, Court of Federal Claims Number 99-0559V

173. Sharon L. McLenon, Grosse Ile, Michigan, Court of Federal Claims Number 99-560V

174. Joyce Diane Keenan, Jacksonville, Florida, Court of Federal Claims Number 99-0561V

175. Laurie Perrin, Stephentown, New York, Court of Federal Claims Number 99-0562V

176. Mary Silva on behalf of Carmen M. Silva, Lighthouse Point, Florida, Court of Federal Claims Number 99-0563V

177. Laura Turpin on behalf of Conor Allen Turpin, Falls Church, Virginia, Court of Federal Claims Number 99-0564V

178. Robin Button on behalf of Jamie P. Button, Hudson, Ohio, Court of Federal Claims Number 99-0565V

179. Barbara A. Smith, St. Louis, Missouri, Court of Federal Claims Number 99-0568V

180. Marilyn L. Wheatley on behalf of Deneka Noelani Wheatley, Moreno Valley, California, Court of Federal Claims Number 99-0569V

181. Anthony Kent on behalf of Anthony Gordon Kent, II, San Jose, California, Court of Federal Claims Number 99-0570V

182. Joanna H. Rydzewski, Seffner, Florida, Court of Federal Claims Number 99-0571V

183. John Theadore Weber on behalf of John Thomas Weber, Northport, New York, Court of Federal Claims Number 99-0572V

184. James Perrodin, Pearland, Texas, Court of Federal Claims Number 99-0573V

185. Mai and William Herbison on behalf of David Francis Herbison, Deceased, Secaucus, New Jersey, Court of Federal Claims Number 99-0574V

186. Tonya and Gerald Nelson on behalf of Abigail Nelson, Deceased, Vienna, Virginia, Court of Federal Claims Number 99-0575V

187. Judith and Christopher Converse on behalf of Benjamin Peter Converse, Vienna, Virginia, Court of Federal Claims Number 99-0576V

188. Charlotte A. Mann, Vienna, Virginia, Court of Federal Claims Number 99-0577V

189. Joseph Michael D'Angioloni, Vienna, Virginia, Court of Federal Claims Number 99-0578V

190. Shari Sand on behalf of Andrew Joseph Sand, Vienna, Virginia, Court of Federal Claims Number 99-0579V

191. Diane M. Sohn, Vienna, Virginia, Court of Federal Claims Number 99-0580V

192. Maura J. Fisk on behalf of Jonathan M. Fisk, Vienna, Virginia, Court of Federal Claims Number 99-0581V

193. Nancy and Wayne Fitzpatrick on behalf of Thomas W. Fitzpatrick, Vienna Virginia, Court of Federal Claims Number 99-0582V

194. Tyeka Lamar on behalf of Donnovan Lamar, Vienna, Virginia, Court of Federal Claims Number 99-0583V

195. Tyeka Lamar on behalf of Desmond Lamar, Vienna, Virginia, Court of Federal Claims Number 99-0584V

196. Janine West on behalf of David West, Vienna, Virginia, Court of Federal Claims Number 99-0585V

197. Lee Ann Cherpak on behalf of Christine E. Cherpak, Vienna, Virginia, Court of Federal Claims Number 99-0586V

198. Diane Adams on behalf of Sonic Rehrig, Vienna, Virginia, Court of Federal Claims Number 99-0587V

199. Summer Erin Densmore, Vienna, Virginia, Court of Federal Claims Number 99-0588V

200. Diane Locane on behalf of Jennifer Locane, Vienna, Virginia, Court of Federal Claims Number 99-0589V

201. Marianne Fraschilla, Vienna, Virginia, Court of Federal Claims Number 99-0590V

202. Ann Marie Ryman, Boston, Massachusetts, Court of Federal Claims Number 99-0591

203. Eileen Schwankl, Boston, Massachusetts, Court of Federal Claims Number 99-0592V

204. Ralph Sizemore on behalf of Amanda Sizemore, Boston, Massachusetts, Court of Federal Claims Number 99-0593V

205. Jane Stevens, Boston, Massachusetts, Court of Federal Claims Number 99-0594V

206. Elizabeth Topp on behalf of Robert Topp, Boston, Massachusetts, Court of Federal Claims Number 99-0595V

207. Charlene Vanluvender on behalf of Amber Vanluvender, Boston, Massachusetts, Court of Federal Claims Number 99-0596V

208. Mary Vaughn, Boston, Massachusetts, Court of Federal Claims Number 99-0597V

209. Kathy Vernier, Boston, Massachusetts, Court of Federal Claims Number 99-0598V

210. Sara Vogel, Boston, Massachusetts, Court of Federal Claims Number 99-0599V

211. Angelia Wile on behalf of Cailin Wile, Boston, Massachusetts, Court of Federal Claims Number 99-0600V

212. James Youngblood, Boston, Massachusetts, Court of Federal Claims Number 99-0601V

213. Nicole Washam on behalf of Baylie Washam, Deceased, Boston, Massachusetts, Court of Federal Claims Number 99-0602V

214. Priya Parmar, Boston, Massachusetts, Court of Federal Claims Number 99-0603V

215. Josie and James Powell on behalf of Emma Powell, Boston, Massachusetts, Court of Federal Claims Number 99-0604V

216. Susan Flynn on behalf of Anthony Flynn, Boston, Massachusetts, Court of Federal Claims Number 99-0605V

217. Linda Leva, Boston, Massachusetts Court of Federal Claims Number 99-0606V

218. Benedict Nkeng, Boston, Massachusetts, Court of Federal Claims Number 99-0607V

219. Harilyn Adler, Boston, Massachusetts, Court of Federal Claims Number 99-0608V

220. Vera Analla, Boston, Massachusetts, Court of Federal Claims Number 99-0609V

221. Loreen Artz, Boston, Massachusetts, Court of Federal Claims Number 99-0610V

222. Walter Augustynski, Boston, Massachusetts, Court of Federal Claims Number 99-0611V

223. Karen Batignani, Boston, Massachusetts, Court of Federal Claims Number 99-0612V

224. Teresa Boschee, Boston, Massachusetts, Court of Federal Claims Number 99-0613V

225. Raymond Bulman, Boston, Massachusetts, Court of Federal Claims Number 99-0614V

226. Kimberly Camerlin on behalf of Alexander Camerlin, Boston, Massachusetts, Court of Federal Claims Number 99-0615V

227. David Clark, Boston, Massachusetts, Court of Federal Claims Number 99-0616V

228. Cheryl Eichelkraut, Boston, Massachusetts, Court of Federal Claims Number 99-0617V

229. David Eklund, Boston, Massachusetts, Court of Federal Claims Number 99-0618V

230. Aly and Faten El-Kadi on behalf of Enjy El-Kadi, Boston, Massachusetts, Court of Federal Claims Number 99-0619V

231. Shereen El-Kadi, Boston, Massachusetts, Court of Federal Claims Number 99-0620V

232. Kristine Goodwin, Boston, Massachusetts, Court of Federal Claims Number 99-0621V

233. Lynn Herklots, Boston, Massachusetts, Court of Federal Claims Number 99-0622V

234. Glen Kerkovich, Boston, Massachusetts, Court of Federal Claims Number 99-0623V

235. Teri Kincaid on behalf of Lisa Kincaid, Boston, Massachusetts, Court of Federal Claims Number 99-0624V

236. Cathy and Jeffrey Kolakowski on behalf of Thomas Kolakowski, Deceased, Boston, Massachusetts, Court of Federal Claims Number 99-0625V

237. Lorraine LeBlanc, Boston, Massachusetts, Court of Federal Claims Number 99-0626V

238. Adam Lipsky, Boston, Massachusetts, Court of Federal Claims Number 99-0627V

239. Nancy Manvillin, Boston, Massachusetts, Court of Federal Claims Number 99-0628V

240. Brenda McMillin, Boston, Massachusetts, Court of Federal Claims Number 99-0629V

241. James Musarra on behalf of Franklin Musarra, Boston, Massachusetts, Court of Federal Claims Number 99-0630V

242. David Myers, Boston, Massachusetts, Court of Federal Claims Number 99-0631V

243. Elizabeth Fleming, Boston, Massachusetts, Court of Federal Claims Number 99-0632V

244. Robinette Giacolo, Boston, Massachusetts, Court of Federal Claims Number 99-0633V

245. Julienne Jack on behalf of Brandon Jack, Deceased, Boston, Massachusetts, Court of Federal Claims Number 99-0634V

246. Tammy Oppy, Boston, Massachusetts, Court of Federal Claims Number 99-0635V

247. John Owen, Jr., Boston, Massachusetts, Court of Federal Claims Number 99-0636V

248. Patricia Petet, Boston, Massachusetts, Court of Federal Claims Number 99-0637V

249. Justin Peugh, Boston, Massachusetts, Court of Federal Claims Number 99-0638V

250. Mona Porter, Boston, Massachusetts, Court of Federal Claims Number 99-0639V

251. Kathy and David Radosh on behalf of Tyler Radosh, Boston, Massachusetts, Court of Federal Claims Number 99-0640V

252. Lindsay Rand and Susan Braus on behalf of Emily Rand, Boston, Massachusetts, Court of Federal Claims Number 99-0641V

253. Linda Reyes on behalf of Anthony R. Reyes, Boston, Massachusetts, Court of Federal Claims Number 99-0642V

254. Gregory Riddick, Boston, Massachusetts, Court of Federal Claims Number 99-0643V

255. Claudia J. Rotoli, Boston, Massachusetts, Court of Federal Claims Number 99-0644V

256. Caren Rubin, Boston, Massachusetts, Court of Federal Claims Number 99-0645V

257. Christopher Wiley, Baton Rouge, Louisiana, Court of Federal Claims Number 99-0646V

258. Martha Durham on behalf of Eliza Collier Durham, Vienna, Virginia, Court of Federal Claims Number 99-0648V

259. Ryan James Szekeres, Vienna, Virginia, Court of Federal Claims Number 99-0649V

260. Laurene Owen, Vienna, Virginia, Court of Federal Claims Number 99-0650V

261. Donna Guillory, Kenner, Louisiana, Court of Federal Claims Number 99-0651V

262. Simba Bakara on behalf of Aisha Bakara, Columbus, Ohio, Court of Federal Claims Number 99-0652V

263. Joanne Baker on behalf of Jonathan Baker, New York, New York, Court of Federal Claims Number 99-0653V

264. Kathryn and Peter Bordonaro on behalf of Michael Bordonaro, Boston, Massachusetts, Court of Federal Claims Number 99-0654V

265. Barbara and John Gilchrist on behalf of Joseph Gilchrist, Deceased, Boston, Massachusetts, Court of Federal Claims Number 99-0655V

266. Fidel Gonzales on behalf of Jacob Gonzales, Boston, Massachusetts, Court of Federal Claims Number 99-0656V

267. Juan Lopez and Elizabeth Birt on behalf of John Matthew Lopez, Boston, Massachusetts, Court of Federal Claims Number 99-0657V

268. Megan Theard, Boston, Massachusetts, Court of Federal Claims Number 99-0658V

269. Rhea Rolsten, Columbus, Ohio, Court of Federal Claims Number 99-0659V

270. Colleen Elizabeth Torbett, Bellevue, Kentucky, Court of Federal Claims Number 99-0660V

271. Renee Eyerman, Dallas, Pennsylvania, Court of Federal Claims Number 99-0661V

272. Craig D. Nicks on behalf of Charles Joffre Bouchard Nicks, Portage, Michigan, Court of Federal Claims Number 99-0662V

273. Craig D. Nicks on behalf of Aidan Nicks, Portage, Michigan, Court of Federal Claims Number 99-0663V

274. Sara and Joseph Barbeau on behalf of Amy Renee Barbeau, Chesterfield, Missouri, Court of Federal Claims Number 99-0664V

275. Winfred Christian, Miami, Florida, Court of Federal Claims Number 99-0665V

276. Lori Meyers, Kalispell, Montana, Court of Federal Claims Number 99-0666V

277. Patricia and James Musarra on behalf of Franklin Musarra, Miami, Florida, Court of Federal Claims Number 99-0667V

278. Tracy Charleville, Baton Rouge, Louisiana, Court of Federal Claims Number 99-0668V

279. Jacqueline and Rob Sharkey on behalf of Ryna Reid Sharkey, Fort Myers, Florida, Court of Federal Claims Number 99-0669V

280. Eric Jeffries, Cincinnati, Ohio, Court of Federal Claims Number 99-0670V

281. Lester Thornton, Tampa, Florida, Court of Federal Claims Number 99-0671V

282. Danielle Sarkine on behalf of Alexandra Logan Sarkine, Indianapolis, Indiana, Court of Federal Claims Number 99-0672V

283. Danielle Sarkine on behalf of Christian Sarkine, Indianapolis, Indiana, Court of Federal Claims Number 99-0673V

284. Shari and Patrick Sanders on behalf of Jake Sanders, Bismarck, North Dakota, Court of Federal Claims Number 99-0674V

285. James Brooks on behalf of Sean Austin Brooks, Deceased,Boston, Massachusetts, Court of Federal Claims Number 99-0675V

286. Clark Bury, Boston, Massachusetts, Court of Federal Claims Number 99-0676V

287. Christy Mitchell, Boston, Massachusetts, Court of Federal Claims Number 99-0677V

288. Robin and John Nesslage on behalf of Hannah Nesslage, Boston, Massachusetts, Court of Federal Claims Number 99-0678V

289. Ellen and James O'Brien on behalf Kevin O'Brien, Boston, Massachusetts, Court of Federal Claims Number 99-0679V

290. Leslie Yost-Schomer on behalf of Weston Daniel Schomer, Vienna, Virginia, Court of Federal Claims Number 99-0680V

291. Ronald Warren Edmunds of behalf of Ronald Christopher Edmunds, Vienna, Virginia, Court of Federal Claims Number 99-0681V

292. Janet Asbury on behalf of Amanda Asbury, Vienna, Virginia, Court of Federal Claims Number 99-0682V

293. Hoke Brock Hamrick, Vienna, Virginia, Court of Federal Claims Number 99-0683V

294. Gloria Lee McNett, Vienna, Virginia, Court of Federal Claims Number 99-0684V

295. Cynthia Gwinn on behalf of Samantha Gwinn, Vienna, Virginia, Court of Federal Claims Number 99-0685V

296. Annette and Wayne Bennett on behalf of Riley Bennett, Boston, Massachusetts, Court of Federal Claims Number 99-0686V

297. Margaret Wolpo on behalf of Maximllan Wolpo, Boston, Massachusetts, Court of Federal Claims Number 99-0687V

298. Ann and Robert Edge on behalf of Robert Bruce Edge, II, Orlando, Florida, Court of Federal Claims Number 99-0692V

299. Fia and Phillip Richmond on behalf of Palmer Richmond, Santa Barbara, California, Court of Federal Claims Number 99-0693V

300. Daniel Melbourne, Vienna, Virginia, Court of Federal Claims Number 99-0694V

301. Kathy Minet on behalf of Andrew Michael Minet, Poughkeepsie, New York, Court of Federal Claims Number 99-0695V

302. Timothy R. Laurain on behalf of Paige E. Laurain, Riverview, Michigan, Court of Federal Claims Number 99-0696V

303. Donald R. Masias, Denver, Colorado, Court of Federal Claims Number 99-0697V

304. Joseph Michael D'Angiolini, Barto, Pennsylvania, Court of Federal Claims Number 99-0698V

305. Wilbur Fletcher on behalf of Rachel Fletcher, La Mesa, California, Court of Federal Claims Number 99-0708V

306. Robin Grewe on behalf of Diane Grewe, Houston, Texas, Court of Federal Claims Number 99-0709V

307. Cheryl and Kenneth Dennison on behalf of Jacob Dennison, St. Louis, Missouri, Court of Federal Claims Number 99-0710V

308. Lowenda and Joel Towe on behalf of Hannah Michelle Towe, Virginia Beach, Virginia, Court of Federal Claims Number 99-0711V

309. Maureen Woods on behalf of Antoinne Nelson, Salina, Kansas, Court of Federal Claims Number 99-0720V

310. Mattie Gatlin on behalf of Billy Edward Gatlin, Deceased, Dallas, Texas, Court of Federal Claims Number 99-0723V

311. Denise Jean Shirley on behalf of Destiny Ann Shirley, Clintwood, Virginia, Court of Federal Claims Number 99-0730V

312. Jorge and Bonnie Correa on behalf of Danielle R. Correa, Glens Falls, New York, Court of Federal Claims Number 99-0736V

313. Anita Y. Oplotnik on behalf of Kristen L. Oplotnik, Springfield, Missouri, Court of Federal Claims Number 99-0739V

314. Cara Byriel, Boone, Iowa, Court of Federal Claims Number 99-0741V

315. Tanzee and Scott Kallas on behalf of Shelby J. Kallas, Evanston, Wyoming, Court of Federal Claims Number 99-0743V

316. Cathryn Lutitia Gardiner, Lake Worth, Texas, Court of Federal Claims Number 99-0745V

317. Rosezella and Steve Gorby on behalf of Danielle Lucille Gorby, Indianapolis, Indiana, Court of Federal Claims Number 99-0748V

318. Georgia Marks on behalf of Brandon D. James, Houston, Texas, Court of Federal Claims Number 99-0761V

319. Jean Kefalidis on behalf of Eleni Kefalidis, Simpsonville, South Carolina, Court of Federal Claims Number 99-0772V

320. Andrea Rupert on behalf of Holden Rupert, Boston, Massachusetts, Court of Federal Claims Number 99-0774V

321. Christopher J. Priest and Rebecca A. Soden on behalf of Christopher I. Priest, Camden, New Jersey, Court of Federal Claims Number 99-0776V

322. Margaret Messeri on behalf of Julianna Messeri, Boston, Massachusetts, Court of Federal Claims Number 99-0777V

323. Leroy Stacy, Springfield, Massachusetts, Court of Federal Claims Number 99-0779V

324. Phyllis A. Fenstermacher, Allentown, Pennsylvania, Court of Federal Claims Number 99-0786V

325. Nelda Limon and Vincent Vaquera on behalf of Miranda Limon, Houston, Texas, Court of Federal Claims Number 99-0787V

March 21, 2000.
Claude Earl Fox,
Administrator.

[FR Doc. 00-8480 Filed 4-5-00; 8:45 am]

BILLING CODE 4160-15-P